ENVIRONMENTAL PROTECTION AGENCY

40 CFR Part 52

[EPA-R04-OAR-2005-AL-0002; FRL-8776-9]

Approval and Promulgation of Air Quality Implementation Plans; Alabama Visible Emissions Rule; Informational Notice

AGENCY: Environmental Protection Agency (EPA).

ACTION: Notice of document availability.

SUMMARY: The purpose of this notice is to inform the public of the availability of documents that were not made available electronically to the public through http://www.regulations.gov when EPA's final rulemaking was published in the Federal Register . These documents were a part of the docket for EPA's final rulemaking approving Alabama's state implementation plan (SIP) revision for the Alabama Visible Emissions Rule. The complete docket was available in hard copy at Region 4. EPA's final rulemaking for this SIP revision was published on October 15, 2008.

ADDRESSES: The hard copy docket is available at the U.S. Environmental Protection Agency, Air, Pesticides and Toxics Management Division, Air Planning Branch, 61 Forsyth Street, SW., Atlanta, Georgia 30303. The electronic docket is available at http://www.regulations.gov. Refer to EPA docket # “EPA-R04-OAR-2005-AL-0002”.

FOR FURTHER INFORMATION CONTACT: Mr. Joel Huey, U.S. Environmental Protection Agency, Air, Pesticides and Toxics Management Division, Air Planning Branch; 61 Forsyth Street, SW.; Atlanta, Georgia 30303. Mr. Huey can be reached via e-mail at Huey.joel@epa.gov or phone at (404) 562-9104.

SUPPLEMENTARY INFORMATION: EPA uses http://www.regulations.gov to provide the public with access to pertinent documents related to EPA actions for SIP revisions. In general, each action has a hard copy paper docket and an electronic docket which includes information such as: the state's submission and supporting documentation; EPA's rulemaking and correspondences related to the SIP revision; public comments provided for the SIP revision during the open public comment period; and other pertinent documentation related to the rulemaking action. The process for generating the electronic docket includes uploading pertinent documents into the Federal Docket Management System (FDMS), and then taking action to make these documents available electronically to the public on http://www.regulations.gov upon publication of EPA's rulemaking action in the Federal Register. The general public cannot view documents until they are promoted following publication of the associated Federal Register document.

On April 12, 2007, EPA published a proposed rule approving Alabama's Visible Emissions Rule. At that time, EPA opened a 60 day public comment period, and subsequently extended the comment period an additional 30 days. The comment period for the proposed rule ended on July 11, 2007. All pertinent documents related to EPA's proposal, comments received during the public comment period and the rulemaking actions were included in FDMS and promoted to http://www.regulations.gov for public access. Subsequent to the proposal phase, EPA received and generated other pertinent documents related to EPA's final rulemaking action which was published in the Federal Register on October 15, 2008. The other pertinent documents are as follows:

• EPA-R04-OAR-2005-AL-0002-0022: Alabama Visible Emissions Final Rule;

• EPA-R04-OAR-2005-AL-0002-0023: Alabama Governor's letter to the Administrator;

• EPA-R04-OAR-2005-AL-0002-0024: September 11, 2003, ADEM cover letter;

• EPA-R04-OAR-2005-AL-0002-0025: Governor's letter to the Administrator;

• EPA-R04-OAR-2005-AL-0002-0026: EPA response to November 6, 2007, Governor's letter;

• EPA-R04-OAR-2005-AL-0002-0027: EPA response to June 17, 2008, Governor's letter;

• EPA-R04-OAR-2005-AL-0002-0028: Meeting Notes;

• EPA-R04-OAR-2005-AL-0002-0029: ADEM Letter to EPA R4;

• EPA-R04-OAR-2005-AL-0002-0030: ADEM Letter to Governor;

• EPA-R04-OAR-2005-AL-0002-0031: EPA 2008 prehearing comment letter;

• EPA-R04-OAR-2005-AL-0002-0032: EPA response to Alabama congressional representatives;

• EPA-R04-OAR-2005-AL-0002-0033: Letter from Alabama congressional representatives;

• EPA-R04-OAR-2005-AL-0002-0034: References;

• EPA-R04-OAR-2005-AL-0002-0035: State Implementation Plan Consistency Process Record;

• EPA-R04-OAR-2005-AL-0002-0036: Administrator Memorandum;

• EPA-R04-OAR-2005-AL-0002-0037: Alabama Opacity Region 4 Meeting Notes;

• EPA-R04-OAR-2005-AL-0002-0038: Recording Dust Emission Measurements in the Cement Industry with the FM4 Smoke Density Meter Made by Messrs. Sick and Staub;

• EPA-R04-OAR-2005-AL-0002-0039: “Emissions from Electrostatic Precipitators,” In Electrostatic Preciptator Manual, 332-350;

• EPA-R04-OAR-2005-AL-0002-0040: Communications with ADEM; and

• EPA-R04-OAR-2005-AL-0002-0041: Region 4 Meeting Notes Continued.

In December 2008, EPA received notification of litigation related to EPA's final rule approving the revisions to Alabama's Visible Emissions Rule. As EPA prepared the documents needed for the administrative record, EPA compared documents listed in FDMS versus http://www.regulations.gov and noted some discrepancies. After some investigation, it was determined that, while EPA prepared the documents for inclusion in the public electronic docket by uploading the pertinent documents into FDMS, the necessary action to make these documents available to the public through the http://www.regulations.gov Web site was not taken upon publication of EPA's final rule on October 15, 2008.

The documents that were inadvertently not made available electronically in the docket included all documents provided subsequent to the proposal phase for EPA's action (see list above). The electronic docket did include documents related to EPA's proposed rulemaking, which were promoted and made available to the public earlier.

EPA's error related to the promotion of pertinent documents to the final rulemaking action became apparent to EPA on January 8, 2009, and was corrected on January 9, 2009. The electronic docket for this rulemaking action can be accessed at regulations.gov with reference to docket number “EPA-R04-OAR-2005-AL-0002.” Since identification of this error, the Region 4 office has refined its protocol to clearly identify necessary steps that must be taken to ensure the completeness and availability of the electronic docket to the public. EPA did generate and maintains a hard copy paper docket for this action in addition to the electronic docket. This hard copy paper docket contained all the pertinent documents for EPA's final rulemaking and continues to be available for inspection by the public at the EPA Region 4 office. In EPA's final rulemaking published on October 15, 2008, EPA informed the public that the docket materials were available both electronically and in hard copy. Additionally, EPA provided contact information in that rulemaking for the public to request access to material. EPA did not receive any requests for this material through the October 15, 2008, rulemaking action.

Dated: February 9, 2009.
Beverly H. Banister,
Acting Regional Administrator, Region 4.

[FR Doc. E9-5220 Filed 3-10-09; 8:45 am]

BILLING CODE 6560-50-P